FEDERAL MARITIME COMMISSION

Sunshine Act; Notice of Meeting

Time and Date: March 25, 2009—10 a.m.

Place: 800 North Capitol Street, NW., First Floor Hearing Room, Washington, DC.

Status: A portion of the meeting will be in Open Session and the remainder of the meeting will be in Closed Session.

Matters to be Considered:

Open Session

1. Docket No. 02-15 Passenger Vessel Financial Responsibility—Request of Commissioner Brennan.

2. FY 2008 Buy American Report to Congress.

Closed Session

1. Docket No. 04-09—American Warehousing of New York, Inc. v. The Port Authority of New York and New Jersey; Docket No. 05-03—American Warehousing of New York, Inc. v. The Port Authority of New York and New Jersey.

2. Docket No. 07-01—APM Terminals North America, Inc. v. The Port Authority of New York and New Jersey v. Maher Terminals, LLC.

3. Termination of RiverBarge Excursion Lines, Inc. Escrow Agreement.

4. Internal Administrative Practices and Personnel Matters.

Contact Person for More Information: Karen V. Gregory, Secretary, (202) 523-5725.

Karen V. Gregory,
Secretary.

[FR Doc. E9-6268 Filed 3-18-09; 4:15 pm]

BILLING CODE 6730-01-P